DEPARTMENT OF TRANSPORTATION

Federal Aviation Administration

14 CFR Part 39

[Docket No. FAA-2006-25983; Directorate Identifier 2006-SW-11-AD]

RIN 2120-AA64

Airworthiness Directives; MD Helicopters, Inc. Model MD900 Series Helicopters

AGENCY: Federal Aviation Administration, DOT.

ACTION: Notice of proposed rulemaking (NPRM).

SUMMARY: This document proposes adopting a new airworthiness directive (AD) for MD Helicopters, Inc. (MDHI) Model MD900 series helicopters. The AD would require modifying the pilot and co-pilot dual-control directional pedal assemblies, or the pilot single-control directional pedal assembly (directional control pedal assembly). This proposal is prompted by an accident which has been attributed to loss of directional control due to failure of the welds in the directional control pedal assembly. The actions specified by the proposed AD are intended to prevent fatigue cracking in the welds that connect the directional control pedal to the pedal shaft, resulting in loss of directional control and subsequent loss of control of the helicopter.

DATES: Comments must be received on or before December 18, 2006.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from MD Helicopters, Inc., Attn: Customer Support Division, 4555 E. McDowell Rd., Mail Stop M615, Mesa, Arizona 85215-9734, telephone 1-800-388-3378, fax 480-346-6813, or on the Web at http://www.mdhelicopters.com.

You may examine the comments to this proposed AD in the AD docket on the Internet at http://dms.dot.gov.

FOR FURTHER INFORMATION CONTACT: Roger Durbin, Aviation Safety Engineer, FAA, Los Angeles Aircraft Certification Office, Airframe Branch, 3960 Paramount Blvd., Lakewood, California 90712, telephone (562) 627-5233, fax (562) 627-5210.

SUPPLEMENTARY INFORMATION:

Comments Invited

We invite you to submit any written data, views, or arguments regarding this proposed AD. Send your comments to the address listed under the caption ADDRESSES. Include the docket number “FAA-2006-25983, Directorate Identifier 2006-SW-11-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation Nassif Building in Room PL-401 at 400 Seventh Street, SW., Washington, DC. Comments will be available in the AD docket shortly after the DMS receives them.

Discussion

This document proposes adopting a new AD for MDHI Model MD900 series helicopters, serial numbers (S/N) 900-00008 through 900-00111, 900-00113, and 900-00114. The AD would require modifying the directional control pedal assembly by removing the existing pedals, removing the welded pedal support plate from the pedal shafts, installing a new pedal mount on each pedal shaft using rivets, reinstalling the pedals on the new pedal mounts, and marking the modified directional control pedal assembly with a part number. This proposal is prompted by an accident which has been attributed to loss of directional control due to failure of the welds in the directional control pedal assembly. The actions specified by the proposed AD are intended to prevent fatigue cracking in the welds that connect the directional control pedal to the pedal shaft, resulting in loss of directional control and subsequent loss of control of the helicopter.

We have reviewed MD Helicopters Service Bulletin SB900-100, dated April 5, 2006, which describes procedures for modifying the directional control pedal assembly.

This unsafe condition is likely to exist or develop on other helicopters of the same type design. Therefore, the proposed AD would require modifying the directional control pedal assembly, part number (P/N) 900C1012007-107, -109, -111, -113, or 900C6012007-111 (pilot dual control); or P/N 900C1012207-105, -107, -109, -111, or -113 (co-pilot dual control); or P/N 900C1010007-107, -109, -111, -113, or 900C6010007-111 (pilot single control), by removing the existing pedals, removing the welded pedal support plate from the pedal shafts, and installing a directional control pedal modification kit, P/N SBK-010. Also, this AD would require ink stamping the P/N, 90005340111-101, on the pedal shaft of each modified directional control pedal assembly using permanent ink. The actions would be required to be accomplished by following specified portions of the service bulletin described previously.

We estimate that this proposed AD would affect 30 helicopters of U.S. registry, and modifying the directional control pedal assembly would take approximately 8 work hours for helicopters with single pilot controls installed, or 16 work hours for helicopters with dual pilot and co-pilot controls installed, at an average labor rate of $80 per work hour. Required parts would cost approximately $775 for helicopters with dual pilot and co-pilot controls installed. The manufacturer has stated in its service bulletin that pedal kits may be provided at no cost, and up to 8 work hours of labor for each set of directional control pedals may be provided at authorized MDHI service centers (two sets of directional control pedals are required for helicopters with dual pilot and co-pilot controls installed). Based on these figures, the total cost impact of the proposed AD on U.S. operators would be $61,650 per helicopter, assuming that dual pilot and co-pilot controls are installed.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

MD Helicopters, Inc.: Docket No. FAA-2006-25983; Directorate Identifier 2006-SW-11-AD.

Applicability: Model MD900 series helicopters, serial numbers (S/N) 900-00008 through 900-00111, 900-00113, and 900-00114, certificated in any category.

Compliance: Required within 90 days after the effective date of this AD, unless accomplished previously.

To prevent fatigue cracking in the welds which connect the pilot and co-pilot dual-control, or pilot single-control directional control pedal (directional control pedal) to the pedal shaft, resulting in loss of directional control and subsequent loss of control of the helicopter, accomplish the following:

(a) Modify each directional control pedal assembly, part number (P/N) 900C1012007-107, -109, -111, -113, or 900C6012007-111 (pilot dual control); or P/N 900C1012207-105, -107, -109, -111, or -113 (co-pilot dual control); or P/N 900C1010007-107, -109, -111, -113, or 900C6010007-111 (pilot single control), by removing the existing pedals, removing the welded pedal support plate from the pedal shafts, and installing a directional control pedal modification kit, P/N SBK-010, in accordance with part 2, Accomplishment Instructions, in MD Helicopters Service Bulletin SB900-100, dated April 5, 2006. One modification kit is required to be installed on helicopters with single controls and two modification kits are required to be installed on helicopters with dual controls.

(b) Using a permanent ink, ink stamp the P/N, 90005340111-101, on the pedal shaft of each modified directional control pedal assembly.

(c) To request a different method of compliance or a different compliance time for this AD, follow the procedures in 14 CFR 39.19. Contact the Manager, Los Angeles Aircraft Certification Office, FAA, Attn: Roger Durbin, Airframe Branch, 3960 Paramount Blvd., Lakewood, California 90712, telephone (562) 627-5233, fax (562) 627-5210, for information about previously approved alternative methods of compliance.

Issued in Fort Worth, Texas, on September 28, 2006.
Mark R. Schilling,
Acting Manager, Rotorcraft Directorate, Aircraft Certification Service.

[FR Doc. E6-17186 Filed 10-16-06; 8:45 am]

BILLING CODE 4910-13-P